FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

Unless otherwise noted, comments regarding the applications must be received at the Reserve Bank indicated or the offices of the Board of Governors, Ann E. Misback, Secretary of the Board, 20th Street and Constitution Avenue, NW, Washington, DC 20551-0001, not later than March 3, 2020.

A. Federal Reserve Bank of Minneapolis (Chris P. Wangen, Assistant Vice President) 90 Hennepin Avenue, Minneapolis, Minnesota 55480-0291:

1. Citizens Bancorporation of New Ulm, Inc., New Ulm, Minnesota; to acquire Farmers State Agency of Watkins, Inc., Watkins, Minnesota, and thereby engage in insurance agency activity through a lending office located in a place that has a population not exceeding 5,000 pursuant to 12 CFR 225.28(b)(11)(iii)(A).

Board of Governors of the Federal Reserve System, February 7, 2020.
Yao-Chin Chao,
Assistant Secretary of the Board.

[FR Doc. 2020-02795 Filed 2-11-20; 8:45 am]

BILLING CODE P